DEPARTMENT OF ENERGY

Federal Energy Regulatory Commission

[Project No. 13844-000]

Qualified Hydro 31, LLC; Notice of Preliminary Permit Application Accepted for Filing and Soliciting Comments, Motions To Intervene, and Competing Applications

November 5, 2010.

On September 29, 2010, Qualified Hydro 31, LLC filed an application, pursuant to Section 4(f) of the Federal Power Act, proposing to study the feasibility of the Salamonie Lake Dam Hydroelectric Project No. 13844, to be located at the existing Salamonie Lake Dam on the Salamonie River, in the City of Wabash, in Wabash County, Indiana. The Salamonie Lake Dam is owned by the United States government and operated by the U.S. Army Corps of Engineers.

The proposed project would consist of: (1) The existing earth-filled dam which is 133 feet in height with an overall length of 6,100 feet; (2) a new reinforced concrete powerhouse, 40 feet by 60 feet, to be located downstream of the existing stilling basin; (3) a new 75-foot-long, 8.0-foot-diameter penstock; (4) two vertical Kaplan turbine-generator units with a combined capacity of 3.5 megawatts; (5) a new 4 MVA substation adjacent to the powerhouse; (6) a new 7,500-foot-long, 12.5 to 34.5-kilovolt transmission line; and (7) appurtenant facilities. The project would have an estimated annual generation of 11.0 gigawatt-hours.

Applicant Contact: Ramya Swaminathan, 33 Commercial Street, Gloucester, MA 01930, (978) 252-7112.

FERC Contact: Tyrone A. Williams, (202) 502-6331.

Deadline for filing comments, motions to intervene, and competing applications (without notices of intent), or notices of intent to file competing applications: 60 days from the issuance date of this notice. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport.gov; call toll-free at (866) 208-3676; or, for TTY, contact (202) 502-8659. Although the Commission strongly recommends electronic filing, documents may also be paper-filed. To paper-file, an original and eight copies should be mailed to: Kimberly D. Bose, Secretary, Federal Energy Regulatory Commission, 888 First Street, NE., Washington, DC 20426. For more information on how to submit these types of filings please go to the Commission's website located at http://www.ferc.gov/filing-comments.asp.

More information about this project, including a copy of the application can be viewed or printed on the “eLibrary” link of Commission's Web site at http://www.ferc.gov/docs-filing/elibrary.asp. Enter the docket number (P-13844) in the docket number field to access the document. For assistance, contact FERC Online Support.

Kimberly D. Bose,
Secretary.

[FR Doc. 2010-28478 Filed 11-10-10; 8:45 am]

BILLING CODE 6717-01-P